ENVIRONMENTAL PROTECTION AGENCY

[ER-FRL-6674-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060002, ERP No. D-BLM-L65500-ID, Coeur d'Alene Resource Management Plan, Implementation, Benewah, Bonner, Boundary, Kootenai and Shoshone Counties, ID.

SUMMARY: EPA supports the goals described in preferred alternative which strives to balance resource protection with active management of commodity resources. However, EPA expressed environmental concerns about water quality impacts, and requested more information about how source water could be protected and recommended including additional discussion on protecting air quality related to prescribed burning.

Rating EC2.

EIS No. 20060053, ERP No. D-AFS-K65299-CA, Slapjack Project, Protect Rural Communities from Fire Hazards by Constructing Defensible Fuel Profile Zones (DFPZS), Feather River Ranger District, Plumas National Forest, Butte and Yuba Counties, CA.

SUMMARY: EPA expressed environmental concern about the potential for cumulative watershed effects, impacts from the use of herbicides within the Wildland Urban Interface, and impacts to late-successional forest species, and recommended consideration of the alternatives that eliminate group selection harvests in watersheds that exceed the Threshold of Concern for cumulative watershed effects.

Rating EC2.

EIS No. 20060067, ERP No. D-GSA-K80046-CA, Los Angeles Federal Bureau of Investigation (FBI) Federal Building, Consolidation of FBI Field Office Headquarters and 11 other Satellite Offices, Federal Central District, Los Angeles, CA.

SUMMARY: EPA expressed environmental concerns about traffic related air quality impacts, and requested that other alternatives that could avoid or reduce those impacts be evaluated.

Rating EC2.

EIS No. 20060068, ERP No. D-AFS-L61131-ID, Emerald Creek Garnet Area, To Provide a Public Recreational Area for Collecting Garnet Gemstone, US Army COE Section 404 Permit, Idaho Panhandle National Forest, St. Joe Ranger District, Latah County, ID

Summary: EPA supports the goal of reducing impacts to water resources; however, EPA expressed environmental concerns about impacts to water quality and restoring 303 (d) listed streams; the final EIS should augment information on impacts to wetland communities.

Rating EC2.

EIS No. 20060071, ERP No. D-AFS-G65100-NM, Santa Fe National Forest Plan Amendment for Oil & Gas Leasing and Roads Management, Implementation, San Juan Basin, Cuba Ranger District, NM.

Summary: EPA does not object to the preferred alternative as described in the DEIS.

Rating LO.

EIS No. 20060074, ERP No. D-AFS-K65300-AZ, Deep Lake Allotment Project, Proposes to Re-authorize Grazing, Mormon Lake Ranger District, Coconino National District, Coconino County, AZ

Summary: EPA does not object to the proposed alternative.

Rating LO.

EIS No. 20060056, ERP No. DS-IBR-K39095-CA, Central Valley Project, West San Joaquin Division, Additional Information, San Luis Unit Long-Term Water Service Contract Renewal, Cities of Avenal, Coalinga and Huron, Fresno, King and Merced Counties, CA

Summary: EPA expressed environmental objections to the project as proposed because of potential impacts to water quality and the lack of comprehensive information regarding incorporation of drainage management plans. EPA requested the contract renewals not be finalized until after the Record of Decision for the Drainage Re-evaluation Plan is completed.

Rating EO2.

Final EISs

EIS No. 20060094, ERP No. F-AFS-F65053-IN, Hoosier National Forest Land and Resource Management Plan, Implementation, Brown, Crawford, Dubois, Jackson, Lawrence, Martin, Orange, Perry Counties, IN.

Summary: The final EIS addressed EPA's environmental concerns; therefore, EPA does not object to the proposed action.

EIS No. 20060103, ERP No. F-BLM-L65488-ID, Cotterel Wind Power Project and Draft Resource Management Plan Amendment, To Build a 190-240 megawatt, Wind-Powered Electrical Generation Facility, Right-of-Way Application, City of Burley, Towns of Albion and Malta, Cassia County, ID

Summary: The final EIS addresses EPA's request for information; therefore, EPA does not object to the proposed action.

Dated: May 5, 2006.
Robert W. Hargrove,
Director, NEPA Compliance Division, Office of Federal Activities.

[FR Doc. E6-6861 Filed 5-4-06; 8:45 am]

BILLING CODE 6560-50-P